Title 3—

The President

Proclamation 8217 of January 18, 2008

National Sanctity of Human Life Day, 2008

By the President of the United States of America

A Proclamation

On National Sanctity of Human Life Day, we recognize that each life has inherent dignity and matchless value, and we reaffirm our steadfast determination to defend the weakest and most vulnerable members of our society.

America was founded on the belief that all men are created equal and have an inalienable right to life, liberty, and the pursuit of happiness, and our country remains committed to upholding that founding principle. Since taking office, I have signed legislation to help protect life at all stages, and my Administration will continue to encourage adoption, fund abstinence education and crisis pregnancy programs, and support faith-based groups. Today, as our society searches for new ways to ease human suffering, we must pursue the possibilities of science in a manner that respects the sacred gift of life and upholds our moral values.

Our Nation has made progress in its efforts to protect human life, and we will strive to change hearts and minds with compassion and decency. On National Sanctity of Human Life Day and throughout the year, we help strengthen the culture of life in America and work for the day when every child is welcomed in life and protected in law.

NOW, THEREFORE, I, GEORGE W. BUSH, President of the United States of America, by virtue of the authority vested in me by the Constitution and laws of the United States, do hereby proclaim Sunday, January 20, 2008, as National Sanctity of Human Life Day. I call upon all Americans to recognize this day with appropriate ceremonies and to underscore our commitment to respecting and protecting the life and dignity of every human being.

IN WITNESS WHEREOF, I have hereunto set my hand this eighteenth day of January, in the year of our Lord two thousand eight, and of the Independence of the United States of America the two hundred and thirty-second.

[FR Doc. 08-358

Filed 1-24-08; 8:56 am]

Billing code 3195-01-P